DEPARTMENT OF COMMERCE

Foreign-Trade Zones Board

[S-153-2016]

Foreign-Trade Zone 100—Dayton, Ohio; Application for Subzone Expansion; Thor Industries, Inc.; Jackson Center, Ohio

An application has been submitted to the Foreign-Trade Zones (FTZ) Board by The Greater Dayton Foreign-Trade Zone, Inc., grantee of FTZ 100, requesting expanded subzone status for the facilities of Thor Industries, Inc. (Thor), located in Jackson Center, Ohio. The application was submitted pursuant to the provisions of the Foreign-Trade Zones Act, as amended (19 U.S.C. 81a-81u), and the regulations of the FTZ Board (15 CFR part 400). It was formally docketed on November 1, 2016.

Subzone 100D consists of the following site: Site 1 (89 acres), 419 West Pike Street, Jackson Center. The applicant is now requesting authority to expand Site 1 to include an additional 3.88 acres as well as add a new site: proposed Site 2 (6.53 acres), 607 East Pike Street, Jackson Center. No additional production authority is being requested at this time. The expanded subzone would be subject to the existing activation limit of FTZ 100.

In accordance with the FTZ Board's regulations, Elizabeth Whiteman of the FTZ Staff is designated examiner to review the application and make recommendations to the Executive Secretary.

Public comment is invited from interested parties. Submissions shall be addressed to the FTZ Board's Executive Secretary at the address below. The closing period for their receipt is December 19, 2016. Rebuttal comments in response to material submitted during the foregoing period may be submitted during the subsequent 15-day period to January 3, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Elizabeth Whiteman at Elizabeth.Whiteman@trade.gov or (202) 482-0473.

Dated: November 1, 2016.
Andrew McGilvray,
Executive Secretary.

[FR Doc. 2016-26982 Filed 11-8-16; 8:45 am]

BILLING CODE 3510-DS-P